CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed. Currently, CNCS is soliciting comments concerning its proposed renewal of Financial Management Survey, OMB No. 3045-0102. The Financial Management Survey collects information from new grantees about their financial management and internal control systems so the CNCS can determine if appropriate systems are in place to manage federal grant funds or, if not, to identify training and technical assistance a new grantee may need to develop and implement appropriate systems. The CNCS requires new grantees which have never before received Corporation funds to complete the form. Completion of this survey is required as an element of CNCS' risk assessment process, but is independent from the competitive grant process.

Copies of the information collection request can be obtained by contacting the office listed in the Addresses section of this Notice.

DATES: Written comments must be submitted to the individual and office listed in the ADDRESSES section by June 16, 2014.

ADDRESSES: You may submit comments, identified by the title of the information collection activity, by any of the following methods:

(1) By mail sent to: Corporation for National and Community Service, Margaret Rosenberry, Director, Office of Grants Management, Room 8207, 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Douglas Godesky, Senior Grants Officer, 202-606-6967 or by email at dgodesky@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Organizations that are receiving CNCS grant funds for the first time complete the form. It can be completed and submitted via email. The survey requests some existing organizational documents, such as an IRS Form 990 and audited financial statements. Organizations can provide those documents electronically or submit them on paper.

Current Action

CNCS seeks to renew the current information collection. The renewed information collection includes the correction of minor administrative and typographical errors and simplifies the submission instructions.

The information collection will otherwise be used in the same manner as the existing application. CNCS also seeks to continue using the current application until the revised application is approved by OMB. The current application is due to expire on June 30, 2014.

Type of Review: Renewal.

Agency: Corporation for National and Community Service.

Title: Financial Management Survey.

OMB Number: 3045-0102.

Agency Number: None.

Affected Public: Organizations that are first time grant recipients to the CNCS.

Total Respondents: 20.

Frequency: Once.

Average Time per Response: Averages 1.75 hours.

Estimated Total Burden Hours: 35 hours.

Total Burden Cost (Capital/Startup): None.

Total Burden Cost (Operating/Maintenance): None.

Comments submitted in response to this notice will be summarized and/or included in the request for Office of Management and Budget approval of the information collection request; they will also become a matter of public record.

Dated: April 10, 2014.
Margaret Rosenberry,
Director, Office of Grants Management.

[FR Doc. 2014-08643 Filed 4-15-14; 8:45 am]

BILLING CODE 6050-28-P